DEPARTMENT OF TRANSPORTATION

Federal Aviation Administration

Request for Comment on Proposed Designated Alteration Station Program Limitations

AGENCY: Federal Aviation Administration, DOT

ACTION: Notice of availability and request for comments.

SUMMARY: The Federal Aviation Administration requests public comment on its intent to manage more closely certain Designated Alteration Station (DAS) activities, specifically off-site DAS prototype installations. The intended guidance also documents the roles and responsibilities of parties involved in the DAS Supplemental Type Certification (STC) process. It is written for the Aircraft Certification (AIR) and Flight Standards (AFS) Services and companies authorized as Designated Alteration Stations (DAS).

DATES: Comments must be received on or before March 4, 2002.

ADDRESSES: Comments on this proposal should be mailed or delivered in duplicate to Ralph Meyer, Delegation and Airworthiness Programs Branch, AIR-140, Aircraft Certification Service, Federal Aviation Administration, P.O. Box 25082, Oklahoma City, OK 73125.

FOR FURTHER INFORMATION CONTACT: Ralph Meyer, telephone (405) 954-7072. Or, you may send an e-mail to ralph.meyer@faa.gov.

SUPPLEMENTARY INFORMATION:

Comments Invited

The proposed notice will be available on the World Wide Web at http://av-info.faa.gov/dst/dasnotice.htm. Interested persons may comment on it by submitting written data, views or arguments. Commentors must identify the proposed notice by subject, and submit comments to the address specified above. The FAA will consider all communications received on or before the closing date for comments.

Discussion

Background and discussion of the proposed policy are provided in the draft notice. Comments should identify the following:

(1) The impact on existing DAS business, including identification of typical STC projects that could not be performed, and changes to business practices that would be necessary under this proposal.

(2) The need for clarification of any portion of this proposal.

(3) Suggested additions or alternatives to this proposal that, in the commentator's opinion, would meet the intent of the policy.

Issued in Washington, DC on January 7, 2002.
Ronald T. Wojnar,
Acting Director, Aircraft Certification Service.

[FR Doc. 02-2540 Filed 1-31-02; 8:45 am]

BILLING CODE 4910-13-M